FEDERAL RESERVE SYSTEM

Agency Information Collection Activities: Announcement of Board Approval Under Delegated Authority and Submission to OMB With Request for Comments, Extension of Comment Period

AGENCY: Board of Governors of the Federal Reserve System.

SUMMARY: Background. On June 4, 2012, the Board published in the Federal Register, a notice of final approval of a proposed information collection by the Board of Governors of the Federal Reserve System (Board) under OMB delegated authority, per 5 CFR 1320.16 (OMB Regulations on Controlling Paperwork Burdens on the Public). The notice requested public comment for 30 days to revise, without extension, Capital Assessments and Stress Testing information collection (FR Y-14A/Q/M). The comment period for this information collection notice expires on July 5, 2012.

Due to the range and complexity of the issues addressed in the information collection notice, the Board has determined that an extension of the end of the public comment period for an additional 30 days is appropriate. This action will allow interested persons additional time to analyze the proposed revisions and prepare their comments.

DATES: Comments must be submitted on or before August 6, 2012.

ADDRESSES: You may submit comments by any of the methods identified in the information collection notice.¹ Please submit your comments using only one method.

¹ See Agency Information Collection Activities: Announcement of Board Approval Under Delegated Authority and Submission to OMB With Request for Comments, 77 FR 32970 (June 4, 2012).

FOR FURTHER INFORMATION CONTACT: Federal Reserve Board Clearance Officer: Cynthia Ayouch, Division of Research and Statistics, Board of Governors of the Federal Reserve System, Washington, DC 20551 (202) 452-3829. Telecommunications Device for the Deaf (TDD) users may contact (202) 263-4869, Board of Governors of the Federal Reserve System, Washington, DC 20551.

OMB Desk Officer: Shagufta Ahmed, Office of Information and Regulatory Affairs, Office of Management and Budget, New Executive Office Building, Room 10235, 725 17th Street NW., Washington, DC 20503.

SUPPLEMENTARY INFORMATION: The approved information collection was published in the Federal Register on June 4, 2012, to revise, without extension, the Capital Assessments and Stress Testing information collection (FR Y-14A/Q/M).

In recognition of the complexities of the issues addressed and the variety of considerations involved with implementation of the quarterly Operational Risk schedule, the Board requested that commenters respond to numerous questions related to the collection of legal reserves data. The information collection notice stated that the public comment period would close on July 5, 2012.²

² Id.

The Board has received requests from the public for an extension of the comment period to allow for additional time for comments relating to the proposed collection of legal reserves data from the respondent BHCs. Due to the range and complexity of the issues addressed in the information collection notice, the Board has determined that an extension of the end of the public comment period for an additional 30 days is appropriate. Therefore, the Board is extending the comment period for the information collection notice from July 5, 2012 to August 6, 2012.

Board of Governors of the Federal Reserve System.
Dated: June 22, 2012.
Jennifer J. Johnson,
Secretary of the Board.

[FR Doc. 2012-15692 Filed 6-26-12; 8:45 am]

BILLING CODE 6210-01-P